DEPARTMENT OF HEALTH AND HUMAN SERVICES

Centers for Disease Control and Prevention

[30DAY-10-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

The Incidence of Breast and Other Cancers among Female Flight Attendants—New—National Institute for Occupational Safety and Health (NIOSH), Centers for Disease Control and Prevention (CDC)—Flight attendants experience exposures which may affect breast cancer risk including exposure to elevated levels of cosmic radiation and circadian rhythm disruption. This study will evaluate the incidence of breast and other cancers among a cohort of approximately 10,000 women who were employed as flight attendants.

The occurrence of breast and other cancers will be obtained from death certificates and from telephone interviews with living women and next-of-kin of deceased women. Each interview will take approximately 60 minutes to complete. Medical records will be requested to confirm cancer diagnoses. The primary analysis will evaluate the risk of breast and other cancers associated with occupational exposure within the cohort. The secondary analysis will compare the incidence of breast and other cancers in the cohort to that in the general population, with adjustment for factors which might increase cancer risk in the cohort independent of occupational exposure to cosmic radiation and circadian rhythm disruption. The annualized total burden is 10,525 hours.

Respondents | Number of respondents | Number of responses/ respondent | Avg. burden per response (in hrs.)
Flight attendants/proxies | 10,000 | 1 | 60/60
Flight attendants/proxies whose eligibility for the study is unknown | 300 | 1 | 5/60
Medical providers | 1,000 | 1 | 30/60

Dated: December 15, 2000.
Nancy Cheal,
Acting Associate Director for Policy, Planning, and Evaluation, Centers for Disease Control and Prevention (CDC).

[FR Doc. 00-32549 Filed 12-20-00; 8:45 am]

BILLING CODE 4163-18-P